DEPARTMENT OF JUSTICE

Notice of Lodging of Consent Decree Under the Clean Water Act and the Oil Pollution Act

Consistent with Department of Justice policy, notice is hereby given that on August 18, 2000, a proposed Consent Decree in United States v. Davidson Sales & Maintenance, Inc. and Jack L. Davidson, Civil Action No. 99-73518, was lodged with the United States District Court for the Eastern District of Michigan, Southern Division.

In the action, the United States sought civil penalties under Section 311(b)(7) of the Clean Water Act, 33 U.S.C. 1311(b)(7), and the recovery of removal costs under Sections 1002 and 1017 of the Oil Pollution Act, 33 U.S.C. 2702, 2717, resulting from a discharge of oil into the Wilkenson Creek in Chelsea, Washtenaw County, Michigan, in September of 1995. Under the Consent Decree, the Defendants will pay $80,000, plus interest, over the course of two years in satisfaction of the claim for costs that the Coast Guard paid to a contractor who performed removal activities.

The Department of Justice will receive for a period of thirty (30) days from the date of this publication comments relating to the Consent Decree. Comments should be addressed to the Assistant Attorney General of the Environment and Natural Resources Division, Department of Justice, P.O. Box 7611, Washington, DC 20044-7611, and should refer to United States v. Davidson Sales & Maintenance, Inc. and Jack L. Davidson, D.J. No. 90-5-1-1-06768.

The Consent Decree may be examined at the Office of the United States Attorney, 211 W. Fort St., Suite 2300, Detroit, MI 48226-3211. A copy of the Consent Decree may be obtained by mail from the Department of Justice Consent Decree Library, P.O. Box 7611, Washington, DC 20044. In requesting a copy, please refer to the above-referenced case and DOJ Reference Number 90-5-1-1-06768, and enclose a check in the amount of $4.25 (25 cents per page reproduction cost) payable to the Consent Decree Library.

Bruce S. Gelber,
Principal Deputy Chief, Environmental Enforcement Section, Environment and Natural Resources Division.

[FR Doc. 00-22132 Filed 8-29-00; 8:45 am]

BILLING CODE 4410-15-M